DEPARTMENT OF THE INTERIOR

Bureau of Land Management

[ES-930-01-1310-EI-241A: MSES 46739 and MSES 46740]

Notice of Proposed Reinstatement of Terminated Oil and Gas Leases; Correction

AGENCY: Bureau of Land Management Interior.

ACTION: Correction to Notice of Proposed Reinstatement of Terminated Oil and Gas Leases.

SUMMARY: The Bureau of Land Management published in the Federal Register on March 29, 2001, a notice announcing the proposed reinstatement of oil and gas leases MSES 46739 and MSES 46740. That notice contained errors which this notice corrects.

FOR FURTHER INFORMATION CONTACT: Ida V. Doup, Chief, Branch of Use Authorization, Division of Resources Planning, Use and Protection at (703) 440-1541.

SUPPLEMENTARY INFORMATION: The Bureau of Land Management published in the Federal Register on March 29, 2001 (66 FR 17196), a notice announcing the proposed reinstatement of oil and gas leases MSES 46739 and MSES 46740. That notice incorrectly stated the increased rental for reinstated leases as $10. The correct rental rate for the reinstated leases would be $5. The notice also incorrectly stated the cost of publishing the notice as $148. The correct publication cost is $158.

Dated: May 31, 2001.
Ida V. Doup,
Chief, Branch of Use Authorization, Division of Resources Panning, Use and Protection.

[FR Doc. 01-15367 Filed 6-18-01; 8:45 am]

BILLING CODE 4310-84-M